DEPARTMENT OF TRANSPORTATION

Federal Aviation Administration

[Summary Notice No. PE-2005-35]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before July 26, 2005.

ADDRESSES: You submit comments (Identified by DOT DMS Docket Number FAA-2005-21615 or FAA-2005-20857) by any of the following methods:

• Web site: http://dms.dot.gov. Follow the instructions for submitting comments on the DOT electronic docket site.

• Fax: 1-202-493-2251.

• Mail: Docket Management Facility; US Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Madeleine Kolb (425) 227-1134, Transport Airplane Directorate, ANM-113, Federal Aviation Administration, 1601 Lind Avenue SE, Renton, WA 98055-4056; or John Linsenmeyer (202) 267-5174, Office of Rulemaking (ARM-1), Federal Aviation Administration, 800 Independence Avenue, SW., Washington, DC 20591. This notice is published pursuant to 14 CFR 11.85 and 11.91.

Issued in Washington, DC, on June 29, 2005.
Anthony F. Fazio,
Director, Office of Rulemaking.

Petition for Exemption

Docket No.: FAA-2005-21615.

Petitioner: Empresa Brasileira de Aeronáutica S.A. (Embraer).

Section of 14 CFR Affected: 14 CFR 25.1549(c).

Description of Relief Sought: Petitioner seeks a time-limited exemption for the Embraer ERJ 190-100 airplane from 14 CFR § 25.1549(c), which requires a precautionary range displayed on a required propulsion system instrument.

Docket No.: FAA-2005-20857.

Petitioner: The Boeing Company.

Section of 14 CFR Affected: 14 CFR 21.325(b)(3).

Description of Relief Sought: Petitioner requests that the FAA reconsider its petition for exemption permitting issuance of export airworthiness approvals for Class II and Class II products from suppliers in India, Greece, South Korea, and Turkey.

[FR Doc. 05-13270 Filed 7-5-05; 8:45 am]

BILLING CODE 4910-13-M